DEPARTMENT OF TRANSPORTATION

Surface Transportation Board

[STB Finance Docket No. 35314 (Sub-No. 1X)]

Massachusetts Coastal Railroad, LLC-Trackage Rights Exemption-CSX Transportation, Inc.

Pursuant to a written trackage rights agreement,¹ proposed to take effect on May 14, 2010, CSX Transportation, Inc. (CSXT) has agreed to grant overhead trackage rights to Massachusetts Coastal Railroad, LLC (Mass Coastal) over CSXT's Middleboro Subdivision: (1) Between Mass Coastal's interchange tracks at Taunton, MA, at approximately milepost QN 11.6, and milepost QN 13.4, a distance of approximately 1.8 miles; and (2) between milepost QNB 13.3 and Mass Coastal's interchange tracks at Middleboro, MA, at approximately milepost QNB 20.4, a distance of approximately 7.1 miles, for a total distance of approximately 8.9 miles.²

¹ A redacted version of the trackage rights agreement between CSXT and Mass Coastal was filed with the notice of exemption. An unredacted version of the agreement was concurrently filed under seal.

² Mass Coastal concurrently filed, in STB Finance Docket No. 35314, Massachusetts Coastal Railroad, LLC-Acquisition-CSX Transportation, Inc., an application to acquire from CSXT a permanent freight easement over the following lines: (1) Between milepost QN 13.40 and milepost QN 31.8 at New Bedford; (2) between milepost QNF 0.0 at Myricks and milepost QNF 14.2 at Fall River; and (3) the North Dartmouth Industrial Track between milepost QND 0.00 and milepost QND 0.08. This request will be addressed in a separate decision.

The transaction is scheduled to be consummated on May 14, 2010, but the effective date of the exemption is December 24, 2009 (30 days after the exemption was filed). The purpose of the overhead trackage rights is to enable Mass Coastal to connect the freight easement it is acquiring in STB Finance Docket No. 35314 with its existing lines and to facilitate efficient interchange of traffic with CSXT.

As a condition to this exemption, any employee affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction. Any stay petition must be filed on or before December 17, 2009 (at least 7 days before the exemption becomes effective).

Pursuant to the Consolidated Appropriations Act, 2008, Public Law 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35314 (Sub-No. 1X), must be filed with the Surface Transportation Board, 395E Street, SW., Washington, DC 20423-0001. In addition, a copy of each pleading must be served on Louis E. Gitomer, Law Offices of Louis E. Gitomer, LLC, 600 Baltimore Avenue, Suite 301, Towson, MD 21204 and John H. Broadley, John H. Broadley & Associates, PC, Canal Square, 1054 Thirty-First Street, NW., Suite 200, Washington, DC 20007.

Board decisions and notices are available on our Web site at: “http://www.stb.dot.gov.”

Decided: December 7, 2009.
By the Board, Rachel D. Campbell, Director, Office of Proceedings.
Jeffrey Herzig,
Clearance Clerk.

[FR Doc. E9-29443 Filed 12-9-09; 8:45 am]

BILLING CODE 4915-01-P